CONSUMER PRODUCT SAFETY COMMISSION

Sunshine Act Meeting Notice

TIME AND DATE: Wednesday, December 9, 2015, 10:00 a.m.-12:00 p.m.

PLACE: Hearing Room 420, Bethesda Towers, 4330 East West Highway, Bethesda, Maryland.

STATUS: Commission Meeting—Open to the Public.

Matters To Be Considered

Hearing: Petition Requesting Rulemaking on Products Containing Organohalogen Flame Retardants.

All of the requirements and conditions set forth in Federal Register/Vol. 80, No. 206/Monday, October 26, 2015 (Page 65174) apply equally to participants who wish to make presentations remotely via teleconference. Call-in participants should be prepared to provide their first name, last name and affiliation. Conference call information below:

Conference Call Number: 866-623-8636

Participant Passcode: 4816474#

A live webcast of the Meeting can be viewed at www.cpsc.gov/live.

CONTACT PERSON FOR MORE INFORMATION: Todd A. Stevenson, Office of the Secretary, U.S. Consumer Product Safety Commission, 4330 East West Highway, Bethesda, MD 20814, (301) 504-7923.

Dated: December 1, 2015.
Todd A. Stevenson,
Secretariat.

[FR Doc. 2015-30695 Filed 12-1-15; 4:15 pm]

BILLING CODE 6355-01-P